DEPARTMENT OF ENERGY

[Docket No. 18-70-LNG]

Mexico Pacific Limited LLC; Application for an Amendment To Extend the Deadline for Commencement of Export Operations in Long-Term Authorization To Re-Export Liquefied Natural Gas

AGENCY: Office of Fossil Energy and Carbon Management, Department of Energy.

ACTION: Notice of application.

SUMMARY: The Office of Fossil Energy and Carbon Management (FECM) (formerly the Office of Fossil Energy (FE)) of the Department of Energy (DOE) gives notice (Notice) of receipt of an application (Extension Application), filed on June 18, 2025, by Mexico Pacific Limited LLC (MXP). MXP asks DOE to amend its existing authorization to re-export U.S.-sourced natural gas in the form of liquefied natural gas (LNG) from the proposed Saguaro Energía Facility (Facility), to be located in Mexico, to non-free trade agreement countries set forth in DOE/FE Order No. 4312 (as amended)—specifically, to extend the current export commencement deadline in its order. MXP filed the Extension Application under the Natural Gas Act (NGA).

DATES: Protests, motions to intervene, or notices of intervention, as applicable, and written comments are to be filed electronically as detailed in the Public Comment Procedures section no later than 4:30 p.m., Eastern time, August 8, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov.

SUPPLEMENTARY INFORMATION: On December 14, 2018, in Order No. 4312 (as amended),¹ DOE authorized MXP to re-export U.S.-sourced natural gas in the form of LNG in a volume equivalent to 621 billion cubic feet per year (Bcf/yr) of natural gas by vessel from the proposed Facility, to be located in the State of Sonora, Mexico, to any country with which the United States has not entered into a free trade agreement (FTA) requiring national treatment for trade in natural gas, and with which trade is not prohibited by U.S. law or policy (non-FTA countries), pursuant to NGA section 3(a).² MXP is authorized to re-export this LNG for a term extending through December 31, 2050.³

¹ Mexico Pacific Limited LLC, DOE/FE Order No. 4312, Docket No. 18-70-LNG, Opinion and Order Granting Long-Term, Multi-Contract Authorization to Export U.S.-Sourced Natural Gas by Pipeline to Mexico for Liquefaction and Re-Export in the Form of Liquefied Natural Gas to Non-Free Trade Agreement Countries (Dec. 14, 2018), amended by DOE/FECM Order No. 4312-A (June 3, 2022) (extending export term).

² 15 U.S.C. 717b(a).

³ Mexico Pacific Limited LLC, DOE/FE Order No. 4312, as amended by DOE/FECM Order No. 4312-A.

As relevant here, Order No. 4312 requires MXP to “commence re-export operations using the planned liquefaction facilities no later than seven years from the date of issuance of this Order”—i.e., by December 14, 2025.⁴ In the Extension Application, MXP asks DOE to extend “the current deadline to commence its export operations to December 14, 2032.” ⁵

⁴ Mexico Pacific Limited LLC, DOE/FE Order No. 4312, at 49 (Ordering Para. D).

⁵ Mexico Pacific Limited LLC, Application for an Amendment to Extend the Commencement of Operations and Request for Expedited Action, Docket No. 18-70-LNG, at 4 (June 18, 2025) [hereinafter Ext. App.]; see also id. at 1. MXP states that it is not requesting any modification to its existing authorization to FTA countries (DOE/FE Order No. 4248, as amended). See id. at 4 n.11.

In support of the extension request, MXP asserts that it is unable to meet the current commencement of export operations deadline due to circumstances and challenges outside of its control. MXP states that, despite these challenges, it has “diligently and in good faith continuously made substantial efforts to advance the development of the Saguaro Energía Facility.” ⁶ MXP identifies the actions it has taken to advance the proposed Facility and asserts that there is good cause for the requested extension. MXP further maintains that it requests only “a change in the deadline” to commence export operations and notes that “[t]he project's location and its target markets remain unchanged.” ⁷

⁶ Id. at 12.

⁷ Id. at 17.

Additional details can be found in the Extension Application, posted on the DOE website at: https://www.energy.gov/sites/default/files/2025-06/MXP%20Extension%20Request%20-%20FINAL%20for%20filing.pdf.

DOE Evaluation

In reviewing the Extension Application, DOE will consider any issues required by law or policy under NGA section 3(a), DOE's regulations, and any other documents deemed appropriate.

Parties that may oppose the Extension Application should address these issues and documents in their comments and/or protests, as well as other issues deemed relevant to the Extension Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Extension Application. Interested parties will be provided 30 days from the date of publication of this Notice in which to submit comments, protests, motions to intervene, or notices of intervention. The public previously was given an opportunity to intervene in, protest, and comment on MXP's long-term non-FTA application in this docket. Therefore, DOE will not consider comments or protests that do not bear directly on the Extension Application.

Any person wishing to become a party to this proceeding evaluating the Extension Application must file a motion to intervene or notice of intervention.⁸ The filing of comments or a protest with respect to the Extension Application will not serve to make the commenter or protestant a party to this proceeding, although protests and comments received from persons who are not parties will be considered in determining the appropriate action to be taken on the Extension Application. All protests, comments, motions to intervene, or notices of intervention must meet the requirements specified by DOE's regulations in 10 CFR part 590, including the service requirements.

⁸ Status as an intervenor in prior proceeding(s) in this docket does not continue to this proceeding evaluating MXP's Extension Application, and therefore any person interested in intervening to address the Extension Application must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 18-70-LNG” or “Mexico Pacific Limited LLC Extension Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Extension Application, and any filed protests, motions to intervene, notices of intervention, and comments will be available electronically on the DOE website at www.energy.gov/fecm/regulation.

A decisional record on the Extension Application will be developed through responses to this Notice by parties, including the parties' written comments and replies thereto. Additional procedures will be used as necessary to achieve a complete understanding of the facts and issues. If an additional procedure is scheduled, notice will be provided to all parties. If no party requests additional procedures, a final Order may be issued based on the official record, including the Extension Application and responses filed by parties pursuant to this Notice, in accordance with 10 CFR 590.316.

Signed in Washington, DC, on July 3, 2025.
Amy Sweeney,
Director, Office of Regulation, Analysis, and Engagement, Office of Resource Sustainability.

[FR Doc. 2025-12763 Filed 7-8-25; 8:45 am]

BILLING CODE 6450-01-P